DEPARTMENT OF HEALTH AND HUMAN SERVICES

Centers for Disease Control and Prevention

Notice of Award of a Single-Source Cooperative Agreement To Fund the Kazakhstan Scientific Center for Dermatology and Infectious Diseases (KSCDID)

AGENCY: Centers for Disease Control and Prevention (CDC), Department of Health and Human Services (HHS).

ACTION: Notice.

SUMMARY: The Centers for Disease Control and Prevention (CDC), located within the Department of Health and Human Services (HHS), announces the award of approximately $500,000, for Year 1 of funding to the Kazakhstan Scientific Center for Dermatology and Infectious Diseases (KSCDID). The award will reduce new HIV infections and AIDS deaths in Kazakhstan through rapidly expanding prevention, testing, care, and effective treatment services to people living with HIV (PLHIV). Funding amounts for years 2-5 will be set at continuation.

DATES: The period for this award will be September 30, 2022 through September 29, 2027.

FOR FURTHER INFORMATION CONTACT: Patrick Nadol, Center for Global Health, Centers for Disease Control and Prevention, 171 Prospect Mira, Bishkek, 720016, Kyrgyz Republic, Telephone: 800-232-6348, E-Mail: pen5@cdc.gov.

SUPPLEMENTARY INFORMATION: The single-source award will implement prevention, testing, care and treatment, laboratory, and strategic information activities in Kazakhstan. KSCDID is in a unique position to conduct this work, as it is the leading organization implementing the National HIV program in Kazakhstan; it will lead and sustain the national HIV services for prevention, testing, care, treatment, and strategic information according to international standards to achieve epidemic control and ensure resilient and sustained health care systems. KSCDID develops policy and regulations, conducts prevention and testing activities, coordinates care and treatment, and is responsible for quality assurance of laboratory services.

Summary of the Award

Recipient: Kazakhstan Scientific Center for Dermatology and Infectious Diseases (KSCDID).

Purpose of the Award: The purpose of this award is to reduce new HIV infections and AIDS deaths in Kazakhstan through rapidly expanding prevention, testing, care, and effective treatment services to PLHIV.

Amount of Award: The approximate year 1 funding amount will be $500,000 in Federal Fiscal Year (FFY) 2022 funds, subject to the availability of funds. Funding amounts for years 2-5 will be set at continuation.

Authority: This program is authorized under Public Law 108-25 (the United States Leadership Against HIV AIDS, Tuberculosis and Malaria Act of 2003).

Period of Performance: September 30, 2022 through September 29, 2027.

Dated: February 15, 2022.
Terrance Perry,
Chief Grants Management Officer, Centers for Disease Control and Prevention.

[FR Doc. 2022-03629 Filed 2-18-22; 8:45 am]

BILLING CODE 4163-18-P